DEPARTMENT OF THE TREASURY

Submission for OMB Review; Comment Request

December 8, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 20, 2004 to be assured of consideration.

Internal Revenue Service (IRS)

OMB Number: 1545-0236.

Form Number: IRS Form 11-C.

Type of Review: Extension.

Title: Occupational Tax and Registration Return for Wagering.

Description: Form 11-C is used to register persons accepting wagers (Internal Revenue Code section 4412). IRS uses this form to register the respondent, collect the annual stamp tax (Internal Revenue Code section 4411), and to verify that the tax on wagers is reported on Form 730.

Respondents: Business or other for-profit, individuals or households, farms.

Estimated Number of Respondents/Recordkeeping: 11,500.

Estimated Burden Hours Respondent/Recordkeeper:

Recordkeeping | 8 hr., 35 min.
Learning about the law or the form | 57 min.
Preparing the form | 11 min. 2 hr., 4 min.
Copying, assembling, and sending the form to the IRS | 16 min.

Frequency of Response: Annually.

Estimated Total Reporting/Recordkeeping Burden: 126,175 hours.

OMB Number: 1545-1130.

Form Number: IRS Form 8816.

Type of Review: Revision.

Title: Special Loss Discount Account and Special Estimated Tax Payment for Insurance Companies.

Description: Form 8816 is used by insurance companies claiming an additional deduction under Internal Revenue Code (IRC) section 847 to reconcile their special loss discount and special estimated tax payments, and to determine their tax benefit associated with the deduction. The information is needed by the IRS to determine that the proper additional deduction was claimed and to insure the proper amount of special estimated tax was computed and deposited.

Respondents: Business or other for-profit.

Estimated Number of Respondents/Recordkeepers: 3,000.

Estimated Burden Hours Respondent/Recordkeeper:

Recordkeeping | 4 hr., 18 min.
Learning about the law or the form | 1 hr., 5 min.
Preparing, copying, assembling, and sending the form to the IRS | 1 hr., 12 min.

Frequency of Response: Annually.

Estimated Total Reporting/Recordkeeping Burden: 19,830 hours.

OMB Number: 1545-1151.

Form Number: IRS Form 8818.

Type of Review: Extension.

Title: Optional Form to Record Redemption of Series EE and I U.S. Savings Bonds Issued After 1989.

Description: Under Internal Revenue Code section 135, if an individual redeems U.S. Savings Bonds issued after 1989 and pays qualified higher education expenses during the year, the interest on the bonds is excludable from income. Form 8818 can be used to keep a record of the bonds cashed so that the taxpayer can claim the proper interest exclusion.

Respondents: Individuals or households.

Estimated Number of Respondents/Recordkeepers: 25,000.

Estimated Burden Hours Respondent/Recordkeeper:

Recordkeeping | 13 min.
Learning about the law or the form | 4 min.
Preparing the form | 13 min.

Frequency of Response: On occasion.

Estimated Total Reporting/Recordkeeping Burden: 32,000 hours.

Clearance Officer: R. Joseph Durbala, (202) 622-3634, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-31205 Filed 12-17-03; 8:45 am]

BILLING CODE 4830-01-P